DEPARTMENT OF COMMERCE

National Institute of Standards and Technology

[Docket Number: 100407180-0225-02]

Technology Innovation Program (TIP) Notice of Availability of Funds; Amendment

AGENCY: National Institute of Standards and Technology (NIST), Department of Commerce.

ACTION: Notice of availability of funds; amendment.

SUMMARY: On April 19, 2010, the National Institute of Standards and Technology (NIST) published a notice in the Federal Register announcing the solicitation of proposals for the fiscal year 2010 Technology Innovation Program (TIP) competition. NIST is issuing this notice to correct the award start date, to correct the description of a nonresponsive proposal listed under Element 3 of the Manufacturing Area of Critical National Need addressed in the notice, and to clarify the function of the white paper referenced in the notice.

DATES: The due date for submission of proposals for the fiscal year 2010 TIP competition is 11:59 p.m. Eastern Time, Thursday, July 15, 2010.

ADDRESSES: Proposals must be submitted to TIP as follows:

Paper submission: Send to National Institute of Standards and Technology, Technology Innovation Program, 100 Bureau Drive, Stop 4750, Gaithersburg, MD 20899-4750.

Electronic submission: http://www.grants.gov.

FOR FURTHER INFORMATION CONTACT: Thomas Wiggins via e-mail at thomas.wiggins@nist.gov or telephone 301-975-5416.

SUPPLEMENTARY INFORMATION: On April 19, 2010, NIST published a notice announcing the solicitation of proposals for the fiscal year 2010 TIP competition (75 FR 20326-34). NIST is issuing this notice to make two corrections and one clarification to that notice. NIST corrects the start date for funding projects. In the April 19, 2010 notice, NIST erroneously indicated in the section entitled Funding Availability that the anticipated start date is January 1, 2010. The correct anticipated start date for funding of proposals under this solicitation is January 1, 2011. The revised Funding Availability section is stated below in its entirety for the public's convenience.

Funding Availability: Fiscal year 2010 appropriations include funds in the amount of approximately $25 million for new TIP awards. The anticipated start date is January 1, 2011. The period of performance depends on the R&D activity proposed. A single company can receive up to a total of $3 million with a project period of performance of up to 3 years. A joint venture can receive up to total of $9 million with a project period of performance of up to 5 years. Continuation of funding after the initial award is based on satisfactory performance, availability of funds, continued relevance to program objectives, and is at the sole discretion of NIST.

In addition, NIST revises the April 19, 2010 notice to correct an example of a nonresponsive proposal listed under Element 3 of the Manufacturing Area of Critical National Need. Due to a drafting error, NIST incorrectly indicated that projects with a primary focus on device development are considered nonresponsive projects. NIST's intent was to indicate that projects without a primary focus on addressing specific process bottlenecks are considered nonresponsive. This error is corrected by replacing the last bullet under the examples of proposals addressing critical process advances that will be considered nonresponsive. The language “Projects with a primary focus (people, equipment, time and/or funds) on device development.” is replaced with “Projects that do not have a primary focus (people, equipment, time and/or funds) on addressing specific process bottlenecks.” The entire revised bulleted list under the examples of proposals addressing critical process advances that will be considered nonresponsive is restated below for the public's convenience.

Examples of proposals addressing critical process advances that will be considered nonresponsive are:

• Any manufacturing process that offers only incremental improvement over existing processes;

• Processes that are intended primarily for military/weaponry applications (e.g. warhead manufacture, chemical/biological warfare materials production);

• Manufacturing processes that cannot be performed in the U.S. due to existing laws or regulations;

• Projects primarily focused on production of non-engineered cells or tissues as therapeutics;

• Projects involving straightforward scale-up of biopharmaceuticals with incremental improvements in the manufacturing processes;

• Projects that involve incremental improvements in traditional processes for biomolecule production (e.g. vaccine production in chicken eggs, hormones such as insulin extracted from pig tissue);

• Biomanufacturing projects that primarily focus on processes for production of non-biopharmaceutical products (e.g. production of biofuels or small molecule drugs);

• Projects that primarily focus on drug discovery or design of new biomaterials;

• Projects that primarily focus on discovery of new production cell systems;

• Projects that use living genetically modified vertebrate animals, invertebrate animals, or plants as bioreactors for biopharmaceutical production;

• Production or scale up of scaffolds or biomaterials used in scaffold design that are not a part of the manufacturing of engineered tissues; and

• Projects that do not have a primary focus (people, equipment, time and/or funds) on addressing specific process bottlenecks.

Finally, NIST is clarifying that the white paper “Manufacturing and Biomanufacturing: Materials Advances and Critical Processes” referenced in the description of Area of Critical National Need: Manufacturing (75 FR 20327) only provides background information related to the selection of this Critical National Need and the associated societal challenges; it does not specifically describe the scope of the Notice of Availability of Funds.

Administrative Procedure Act and Regulatory Flexibility Act: Prior notice and comment are not required under 5 U.S.C. 553, or any other law, for rules relating to public property, loans, grants, benefits or contracts (5 U.S.C. 553(a)). Because prior notice and an opportunity for public comment are not required pursuant to 5 U.S.C. 553 or any other law, the analytical requirements of the Regulatory Flexibility Act (5 U.S.C. 601 et seq.) are inapplicable. Therefore, a regulatory flexibility analysis is not required and has not been prepared.

E.O. 12866 (Regulatory Planning and Review): This notice has been determined to be not significant under Executive Order 12866.

Dated: June 7, 2010.
Katharine B. Gebbie,
Director, Physics Laboratory.

[FR Doc. 2010-14115 Filed 6-10-10; 8:45 am]

BILLING CODE 3510-13-P